INTERNATIONAL TRADE COMMISSION

[Investigation Nos. 701-TA-562 and 731-TA-1329 (Review)]

Ammonium Sulfate From China; Cancellation of Hearing for Full Five-Year Reviews

AGENCY: United States International Trade Commission.

ACTION: Notice.

DATES: Applicable December 1, 2022.

FOR FURTHER INFORMATION CONTACT: Peter Stebbins ((202) 205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On August 1, 2022, the Commission established a schedule for the conduct of the full five-year reviews (87 FR 47463 August 3, 2022), and on September 19, 2022, gave notice of updated information related to the conduct of the hearing for these reviews (87 FR 58134 September 23, 2022). On November 29, 2022, counsel for the Committee for Fair Trade in Ammonium Sulfate filed a request to appear at the hearing. No other parties submitted a request to appear at the hearing. On December 1, 2022, counsel for the Committee for Fair Trade in Ammonium Sulfate filed a request that the Commission cancel the scheduled hearing for these reviews and withdrew its request to appear at the hearing. Counsel indicated a willingness to submit written responses to any Commission questions. Consequently, the public hearing in connection with these reviews, scheduled to begin at 9:30 a.m. on Tuesday, December 6, 2022, is cancelled. Parties to these reviews should respond to any written questions posed by the Commission in their posthearing briefs, which are due to be filed on December 13, 2022.

For further information concerning these reviews see the Commission's notice cited above and the Commission's Rules of Practice and Procedure, part 201, subparts A and B (19 CFR part 201), and part 207, subparts A, D, E, and F (19 CFR part 207).

Authority: These reviews are being conducted under authority of title VII of the Tariff Act of 1930; this notice is published pursuant to section 207.62 of the Commission's rules.

By order of the Commission.
Issued: December 2, 2022.
Katherine Hiner,
Acting Secretary to the Commission.

[FR Doc. 2022-28027 Filed 12-23-22; 8:45 am]

BILLING CODE 7020-02-P